DEPARTMENT OF HOMELAND SECURITY

Coast Guard

33 CFR Part 100

[USCG-2009-0436]

RIN 1625-AA08

Special Local Regulations; Great Lakes Annual Marine Events

AGENCY: Coast Guard, DHS.

ACTION: Notice of proposed rulemaking.

SUMMARY: The Coast Guard proposes to amend special local regulations for annual regattas and marine parades in the Captain of the Port Buffalo zone. This action is necessary to protect the public and participants from hazards associated with regattas and marine parades. This proposed rule is intended to ensure safety of life on the navigable waters immediately prior to, during, and immediately after regattas or marine parades.

DATES: Comments and related materials must reach the Coast Guard on or before July 10, 2009.

ADDRESSES: You may submit comments identified by Coast Guard docket number USCG-2009-0436 to the Docket Management Facility at the U.S. Department of Transportation. To avoid duplication, please use only one of the following methods:

(1) Online: http://www.regulations.gov.

(2) Mail: Docket Management Facility (M-30), U.S. Department of Transportation, West Building Ground Floor, Room W12-140, 1200 New Jersey Avenue, SE., Washington, DC 20590-0001.

(3) Hand delivery: Room W12-140 on the Ground Floor of the West Building, 1200 New Jersey Avenue, SE., Washington, DC 20590, between 9 a.m. and 5 p.m., Monday through Friday, except Federal holidays. The telephone number is 202-366-9329.

(4) Fax: 202-493-2251.

FOR FURTHER INFORMATION CONTACT: CDR Joseph Boudrow, Prevention Dept. Chief, Sector Buffalo, 1 Fuhrmann Blvd., Buffalo, NY 14203; 716-843-9385.

SUPPLEMENTARY INFORMATION:

I. Public Participation and Request for Comments

We encourage you to participate in this rulemaking by submitting comments and related materials. All comments received will be posted, without change, to http://www.regulations.gov and will include any personal information you have provided. We have an agreement with the Department of Transportation (DOT) to use the Docket Management Facility. Please see DOT's “Privacy Act” paragraph below.

A. Submitting Comments

If you submit a comment, please include the docket number for this rulemaking (USCG-2009-0436), indicate the specific section of this document to which each comment applies, and give the reason for each comment. We recommend that you include your name, mailing address, and an e-mail address or other contact information in the body of your document to ensure that you can be identified as the submitter. This also allows us to contact you in the event further information is needed or if there are questions. For example, if we cannot read your submission due to technical difficulties and you cannot be contacted, your submission may not be considered. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period. We may change this proposed rule in view of them.

B. Viewing Comments and Documents

To view comments, as well as documents mentioned in this preamble as being available in the docket, go to http://www.regulations.gov at any time, click on “Search for Dockets,” and enter the docket number for this rulemaking (USCG-2009-0436) in the Docket ID box, and click enter. You may also visit the Docket Management Facility in Room W12-140 on the ground floor of the DOT West Building, 1200 New Jersey Avenue, SE., Washington, DC 20590, between 9 a.m. and 5 p.m., Monday through Friday, except Federal holidays.

C. Privacy Act

Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://DocketsInfo.dot.gov.

SUPPLEMENTARY INFORMATION:

Public Meeting

We do not now plan to hold a public meeting. But you may submit a request for a meeting by writing to Commander, Coast Guard Sector Buffalo at the address under ADDRESSES explaining why one would be beneficial. If we determine that one would aid this rulemaking, we will hold one at a time and place announced by a later notice in the Federal Register.

Background and Purpose

This proposed rule will remove from table 1 found in 33 CFR 100.901, Great Lakes annual marine events, all entries under Group Buffalo, N.Y. These events no longer occur annually or are not regattas or marine parades. This proposed rule will also add new sections not previously listed in 33 CFR Part 100. The new sections are: § 100.926 Syracuse Hydrofest, Syracuse, N.Y.; § 100.927 Swim the Bay, Presque Isle Bay, Erie, PA; § 100.928 Carly's Crossing, Lake Erie, Buffalo, N.Y.; § 100.929 Thunder on the Niagara, Niagara River, North Tonawanda, N.Y.; and § 100.930 Antique Boat Show, Niagara River, Grand Island, N.Y.

Discussion of Proposed Rule

The proposed rule is necessary to ensure the safety of vessels and people during annual regattas and marine parades in the Captain of the Port Buffalo area of responsibility that may pose a hazard to the public. This rule proposes the removal of regulations currently published in 33 CFR part 100.901 under Group Buffalo and adds new events never before published in the CFR.

The proposed safety zones will be enforced only immediately before, during, and after events that pose hazard to the public, and only upon notice by the Captain of the Port.

The Captain of the Port will inform the public about the details of each regatta or marine parade covered by these special local regulations using a variety of means, including, but is not limited to, Broadcast Notices to Mariners and Local Notices to Mariners. The Captain of the Port will issue a Broadcast Notice to Mariners notifying the public when enforcement of the special local regulation for each event is terminated.

Regulatory Evaluation

This proposed rule is not a “significant regulatory action” under section 3(f) of Executive Order 12866, Regulatory Planning and Review, and does not require an assessment of potential costs and benefits under section 6(a)(3) of that Order. The Office of Management and Budget has not reviewed it under that Order.

We expect the economic impact of this proposed rule to be so minimal that a full Regulatory Evaluation is unnecessary.

The Coast Guard's use of these special local regulations will be periodic in nature, of short duration, and designed to minimize the impact on navigable waters. These special local regulations will only be enforced immediately before and during the time the marine events are occurring. Furthermore, these special local regulations have been designed to allow vessels to transit portions of the waterways not affected by the special local regulations. The Coast Guard expects insignificant adverse impact to mariners from the activation of these special local regulations.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

This proposed rule would affect the following entities, some of which might be small entities: The owners of operators of vessels intending to transit or anchor in the areas designated as special local regulations in paragraphs (4) through (13) during the dates and times the special local regulations are being enforced.

These special local regulations would not have a significant economic impact on a substantial number of small entities for the following reasons. The special local regulations in this proposed rule would be in effect for short periods of time, and only once per year. The special local regulations have been designed to allow traffic to pass safely around the zone whenever possible and vessels will be allowed to pass through the zones with the permission of the Captain of the Port.

If you think that your business, organization, or governmental jurisdiction qualifies as a small entity and that this proposed rule would have a significant economic impact on it, please submit a comment (see ADDRESSES) explaining why you think it qualifies and how and to what degree this proposed rule would economically affect it.

Assistance for Small Entities

Under section 213(a) of the Small Business Regulatory Enforcement Fairness Act of 1996 (Public Law 104-121), we want to assist small entities in understanding this proposed rule so that they can better evaluate its effects on them and participate in the rulemaking. If the proposed rule would affect your small business, organization, or governmental jurisdiction and you have questions concerning its provisions or options for compliance, please contact CDR Joseph Boudrow, Prevention Dept. Chief, Sector Buffalo, 1 Fuhrmann Blvd., Buffalo, NY 14203; 716-843-9385. The Coast Guard will not retaliate against small entities that question or complain about this proposed rule or any policy or action of the Coast Guard.

Collection of Information

This proposed rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule will not result in such expenditure, we nevertheless discuss its effects elsewhere in this preamble.

Taking of Private Property

This proposed rule will not affect the taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This proposed rule is not an economically significant rule and does not create an environmental risk to health or risk to safety that may disproportionately affect children.

Indian Tribal Governments

The Coast Guard recognizes the treaty rights of Native American Tribes. Moreover, the Coast Guard is committed to working with Tribal Governments to implement local policies and to mitigate tribal concerns. We have determined that these safety zones and fishing rights protection need not be incompatible. We have also determined that this proposed rule does not have tribal implications under Executive Order 13175, Consultation and Coordination with Indian Tribal Governments, because it does not have a substantial direct effect on one or more Indian tribes, on the relationship between the Federal Government and Indian tribes, or on the distribution of power and responsibilities between the Federal Government and Indian tribes. Nevertheless, Indian Tribes that have questions concerning the provisions of this proposed rule or options for compliance are encouraged to contact the point of contact listed under FOR FURTHER INFORMATION CONTACT.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Commandant Instruction M16475.lD and Department of Homeland Security Management Directive 023-01, which guide the Coast Guard in complying with the National Environmental Policy Act of 1969 (NEPA) (42 U.S.C. 4321-4370f), and have made a preliminary determination that this action is not likely to have a significant effect on the human environment. An environmental analysis checklist supporting this preliminary determination is available in the docket where indicated under ADDRESSES. We seek any comments or information that may lead to the discovery of a significant environmental impact from this proposed rule.

List of Subjects in 33 CFR Part 100

Harbors, Marine Safety, Navigation (water), Reporting and recordkeeping requirements, Security measures, Waterways.

For the reasons discussed in the preamble, the Coast Guard propo ses to amend 33 CFR part 100 as follows:

PART 100—SAFETY OF LIFE ON NAVIGABLE WATERS

1. The authority citation for Part 100 continues to read as follows:

Authority: 33 U.S.C. 1233.

§ 100.901 [Amended]

2. Amend § 100.901 Table 1 as follows:

a. Under the entry “Group Buffalo, NY”:

1. Remove “Group Buffalo, NY”.

2. Remove in their entirety the entries: Fireworks by Grucci, Flagship International Kilo Speed Challenge, Flagship International Offshore Challenge, Friendship Festival Airshow, NFBRA Red Dog Kilo Time Trials, Sodus Bay 4th of July Fireworks, Tallship Erie, Thomas Graves Memorial Fireworks Display, Thunder Island Offshore Challenge, We Love Erie Days Fireworks.

3. Add § 100.926 to read as follows:

§ 100.926 Syracuse Hydrofest, Syracuse, NY.

(a) Regulated Area. A regulated area is established to include all waters of Onondaga Lake located at 43°06′00″ N, 076°12′35″ W, South to 43°05′26″ N, 076°13′05″ W, South West to 43°04′09″ N, 076°11′29″ W, North to 43°04′33″ N, 076°10′59″ W.

(b) Special Local Regulations. The regulations of § 100.901 apply. No vessel may enter, transit through, or anchor within the regulated area without the permission of the Coast Guard Patrol Commander.

(c) Effective Date. This event occurs the second weekend in July. The exact dates and times for this event will be determined annually and published via Local Notice to Mariners and Broadcast Notice to Mariners.

4. Add § 100.927 to read as follows:

§ 100.927 Swim the Bay, Presque Isle Bay, Erie, PA.

(a) Regulated Area. A regulated area is established to include all waters of Presque Isle Bay, Erie, PA starting in position 42°07′28″ N, 080°07′50″ W heading northwest to position 42°07′21″ N, 080°08′44″ W then south to 42°07′13″ N, 080°08′46″ W then east to 042°07′15″ N, 080°08′06″ W. The starting and finishing positions are the Erie Yacht Club.

(b) Special Local Regulations. The regulations of § 100.901 apply. No vessel may enter, transit through, or anchor within the regulated area without the permission of the Coast Guard Patrol Commander.

(c) Effective Date. This event occurs the last week in June. The exact dates and times for this event will be determined annually and published via Local Notice to Mariners and Broadcast Notice to Mariners.

5. Add § 100.928 to read as follows:

§ 100.928 Carly's Crossing, Lake Erie, Buffalo, NY.

(a) Regulated Area. A regulated area is established to include all waters of Lake Erie extending two miles to the break wall outside of Gallagher Beach. The positions of the race course are as follows; starting 42°50′47″ N, 078°51′44″ W headed North East to position 42°50′27″ N, 078°52′23″ W West to 42°50′19″ N, 078°52′10″ W then finishing South at position 42°50′27″ N, 078°51′35″ W (NAD 83).

(b) Special Local Regulations. The regulations of § 100.901 apply. No vessel may enter, transit through, or anchor within the regulated area without the permission of the Coast Guard Patrol Commander.

(c) Effective Date. This event occurs the third Saturday in August. The exact times for this event will be determined annually and published via Local Notice to Mariners and Broadcast Notice to Mariners.

6. Add § 100.929 to read as follows:

§ 100.929 Thunder on the Niagara, Niagara River, North Tonawanda, NY.

(a) Regulated Area. A regulated area is established to include all waters of the Upper Niagara River, North Tonawanda, NY within two miles of the Grand Island Bridge located at 43°03′36″ N, 078°54′45″ W to 43°03′09″ N, 078°55′21″ W to 43°03′00″ N, 078°53′42″ W to 43°02′42″ N, 078°54′09″ W.

(b) Special Local Regulations. The regulations of § 100.901 apply. No vessel may enter, transit through, or anchor within the regulated area without the permission of the Coast Guard Patrol Commander.

(c) Effective Date. This event occurs the last week of August. The exact dates and times for this event will be determined annually and published via Local Notice to Mariners and Broadcast Notice to Mariners.

7. Add § 100.930 to read as follows:

§ 100.930 Antique Boat Show, Niagara River, Grand Island, NY.

(a) Regulated Area. A regulated area is established to include all waters of the Niagara River, Grand Island, NY from the S. Grand Island Bridge to Motor Island; coordinates 42°59′59″ N, 078°56′22″ W, East to 42°59′54″ N, 078°56′14″ W, South to 42°57′54″ N, 078°56′04″ W, West to 42°57′48″ N, 078°56′22″ W.

(b) Special Local Regulations. The regulations of § 100.901 apply. No vessel may enter, transit through, or anchor within the regulated area without the permission of the Coast Guard Patrol Commander.

(c) Effective Date. This event occurs the first Saturday in September after Labor Day. The exact dates and times for this event will be determined annually and published via Local Notice to Mariners and Broadcast Notice to Mariners.

Dated: May 27, 2009.
R.S. Burchell,
Captain, U.S. Coast Guard, Captain of the Port Buffalo.

[FR Doc. E9-13534 Filed 6-9-09; 8:45 am]

BILLING CODE 4910-15-P